ENVIRONMENTAL PROTECTION AGENCY

[EPA-HQ-SFUND-2013-0549; FRL-9984-06-OEI]

Agency Information Collection Activities; Information Collection Request Submitted to OMB for Review and Approval; Comment Request; Notification of Episodic Releases of Oil and Hazardous Substances (Renewal)

AGENCY: Environmental Protection Agency (EPA).

ACTION: Notice.

SUMMARY: The Environmental Protection Agency (EPA) has submitted an information collection request (ICR), Notification of Episodic Releases of Oil and Hazardous Substances (EPA ICR Number 1049.14, OMB Control Number 2050-0046) to the Office of Management and Budget (OMB) for review and approval in accordance with the Paperwork Reduction Act. This is a proposed extension of the ICR, which is currently approved through September 30, 2018. Public comments were previously requested via the Federal Register April 11, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 24, 2018.

ADDRESSES: Submit your comments, referencing Docket ID Number EPA-HQ-SFUND-2013-0549, to (1) EPA online using www.regulations.gov (our preferred method), superfund.docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, (5104A), Environmental Protection Agency, 1200 Pennsylvania Ave. NW, Washington, DC 20460; telephone number: (202) 564-8019; email address: Jacob.Sicy@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Section 103(a) of Comprehensive Environmental Response, Compensation, and Liability Act (CERCLA), as amended, requires the person in charge of a facility or vessel to immediately notify the National Response Center (NRC) of a hazardous substance release into the environment if the amount of the release equals or exceeds the substance's reportable quantity (RQ) limit. The RQs for the hazardous substance can be found in Table 302.4 of 40 CFR 302.4. Section 311 of the Clean Water Act (CWA), as amended, requires the person in charge of a vessel to immediately notify the NRC of an oil spill into U.S. navigable waters if the spill causes a sheen, violates applicable water quality standards, or causes a sludge or emulsion to be deposited beneath the surface of the water or upon adjoining shorelines. The reporting of a hazardous substance release that is at or above the substance's RQ allows the Federal government to determine whether a Federal response action is required to control or mitigate any potential adverse effects to public health or welfare or the environment. Likewise, the reporting of oil spills allows the Federal government to determine whether cleaning up the oil spill is necessary to mitigate or prevent damage to public health or welfare or the environment. The hazardous substance and oil release information collected under CERCLA section 103(a) and CWA section 311 also is available to EPA program offices and other Federal agencies that use the information to evaluate the potential need for additional regulations, new permitting requirements for specific substances or sources, or improved emergency response planning. Release notification information, which is stored in the national Emergency Response Notification System (ERNS) data base, is available to state and local government authorities as well as the general public. State and local government authorities and the regulated community use release information for purposes of local emergency response planning. Members of the general public, who have access to release information through the Freedom of Information Act, may request release information for purposes of maintaining an awareness of what types of releases are occurring in different localities and what actions, if any, are being taken to protect public health and welfare and the environment. ERNS fact sheets, which provide summary and statistical information about hazardous substance and oil release notifications, also are available to the public.

Form numbers: None.

Respondents/affected entities: Facilities and vessels that may have releases of any hazardous substance or oil at or above its RQ.

Respondent's obligation to respond: Mandatory under CERCLA section 103(a).

Estimated number of respondents: 18,447.

Frequency of response: As releases occur from a facility or a vessel.

Total estimated burden: 18,816 hours per year. Burden is defined at 5 CFR 1320.03(b).

Estimated total annual costs: $1,046,314, which includes no capital or O&M costs associated with this ICR.

Changes in Estimates: There is a decrease of 79,026 hours per year in the total estimated respondent burden compared with that identified in the ICR currently approved by OMB. The number of notifications received by NRC of incidents is lower than the projected number of notifications in the previous ICR. The burden hours reported by facilities that EPA contacted were lower than EPA's estimates in the previous ICR.

Courtney Kerwin,
Director, Regulatory Support Division.

[FR Doc. 2018-20636 Filed 9-21-18; 8:45 am]

BILLING CODE 6560-50-P